ENVIRONMENTAL PROTECTION AGENCY

[ER-FRL-6655-6]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 2, 2004 (69 FR 17403).

Draft EISs

ERP No. D-AFS-G65092-NM Rating LO, Invasive Plant Control Project, To Protect the Abundance and Biological Diversity of Desired Native Plant, Carson National Forest and Santa Fe National Forest, Rio Arriba, Colfax, Los Alamos, Mora and San Miguel Counties, NM.

Summary: EPA has no objection to the selection of the preferred alternative.

ERP No. D-AFS-J65021-MT Rating EC2, Gallatin National Forest Noxious and Invasive Weed Control Project, To Prevent and Reduce Loss of Native Plant, Bozeman, Carbon, Madison, Gallatin, Meagher, Park, and Sweet Grass Counties, MT.

Summary: EPA expressed concerns that without adequate environmental protection measures to reduce the potential for herbicide transport there is the potential of adverse impacts to water quality and biota. The Final EIS should include additional information on herbicide monitoring and aquatic toxicity.

ERP No. D-AFS-J65417-MT Rating EC2, Frenchtown Face Ecosystem Restoration Project, Maintain or Improve Forest Health and Reduce the Risk of Damage Insects and Disease, Lolo National Forest, Ninemile Ranger District, Missoula County, MT.

Summary: EPA supports project purpose and need, but has concerns regarding potential adverse effects to 303(d) listed waters. EPA recommends that the final EIS include additional analysis and information regarding impacts to water quality effects, monitoring, and mitigation.

ERP No. D-AFS-J65420-SD Rating EC2, Southeast Geographic Area Rangeland Management on National Forest System Lands of the Buffalo Gap National Grassland, To Implement Best Management Grazing Practices, Buffalo Gap National Grassland, Falls River Ranger District, Falls River Ranger District, Fall River County, SD.

Summary: EPA expressed environmental concerns due to impacts to water quality, and aquatic habitat and resources from livestock grazing in streams, riparian zones and wetlands. The Final EIS should include additional measures and mitigation to protect riparian areas and aquatic resources as well as monitoring thresholds and management responses to be used with the adaptive management approach.

ERP No. D-AFS-K65269-CA Rating EC2, Southern California National Forests Land Management Plans, Revision of the Angeles, Cleveland, Los Padres and San Bernardino National Forests Land Management Plans, San Bernadino, Riverside and San Diego Counties, CA.

Summary: EPA expressed concerns due to impacts related to water quality and quantity, air quality, and sensitive resources; integration of fire use as a management tool; and adequate funding for monitoring.

ERP No. D-DOI-K99033-00 Rating EC2, Programmatic EIS—Lower Colorado River Multi-Species Conservation Program, Issuing an Incidental Take Permit based on the Plan, Extending from Lake Mead to the Southerly International Boundary with Mexico, AZ, NV and CA.

Summary: EPA expressed environmental concerns with the project meeting National Ambient Air Quality Standards (NAAQS) for particulate matter, adverse effects of chemical contaminants on backwater biota, potential adverse impacts of water diversions, and outreach to environmental justice populations. Concerns were also expressed regarding future actions required for specific projects, funding of the MSCP, and lack of information on revised NAAQS.

Final EISs

ERP No. F-AFS-F65041-MN, Chippewa and Superior National Forests Land and Resource Management Plans Revision, Implementation, Beltrami, Cass, Itasca, Cook, Lake and St. Louis Counties, MN.

Summary: While EPA's previous concerns on invasive species and nonpoint source water pollution were addressed, the Final EIS did not provide clarification on deer herbivory monitoring.

ERP No. F-AFS-K65261-CA, Larson Reforestation and Fuel Reduction Project, Implementation, Stanislaus National Forest, Groveland Ranger District, Mariposa and Tuolumne Counties, CA.

Summary: No formal comment letter was sent to the preparing agency.

ERP No. F-BLM-J65325-WY, Jack Morrow Hills Coordinated Activity Plan, Implementation, Rock Springs, Portion of Sweetwater, Fremont and Subelette Counties, WY.

Summary: No formal comment letter was sent to the preparing agency.

ERP No. F-COE-K39078-CA, Napa River Salt Marsh Restoration Project, Salinity Reduction and Habitat Restoration in the Napa River Unit, Implementation, San Pablo Bay, Napa and Solano Counties, CA.

Summary: No formal comment letter was sent to preparing agency.

ERP No. F-DOD-A10075-00, Programmatic EIS—Chemical and Biological Defense Program, Protection of our Soldiers, Sailors, Marines and Airmen on the Battlefield, United States and other Countries.

Summary: No formal comment letter was sent to the preparing agency.

ERP No. F-NPS-C65004-NY, Saratoga National Historical Park General Management Plan, Implementation, Hudson River Valley, Towns of Stillwater and Saratoga, Saratoga County, NY.

Summary: EPA has no objections to proposed action.

ERP No. F-UAF-D52001-WV, Aircraft Conversion for the 167th Air Wing (167 AW) of the West Virginia Air National Guard, Converting C-13OH Transport Aircraft to the Larger C-5 Transport Aircraft, Acquisition of Land via Lease, and Construction of Facilities on existing and acquired Parcel, Berkely County, WV.

Summary: While many of EPA's previous concerns were resolved, EPA continues to have environmental concerns about noise and safety related to the closure of Runway 17/35.

Dated: September 7, 2004.
Robert W. Hargrove,
Director, NEPA Compliance Division, Office of Federal Activities.

[FR Doc. 04-20509 Filed 9-9-04; 8:45 am]

BILLING CODE 6560-50-P